DEPARTMENT OF DEFENSE

Office of the Secretary

Submission for OMB Review; Comment Request

ACTION: Notice.

The Department of Defense has submitted to OMB for clearance, the following proposal for collection of information under the provisions of the Paperwork Reduction Act (44 U.S.C. Chapter 35).

DATES: Consideration will be given to all comments received by December 30, 2005.

Title and OMB Number: Information Collection in Support of the DoD Acquisition Process (Solicitation Phase); OMB Control Number 0704-0187.

Type of Request: Extension.

Number of Respondents: 5,608.

Responses Per Respondent: Approximately 6.

Annual Responses: 34,567.

Average Burden Per Response: 9.6 hours.

Annual Burden Hours: 330,718.

Needs and Uses: This information collection requirements pertains to information that an offeror must submit to DoD in response to a request for proposals or an invitation for bids. DoD uses this information to evaluate offers; determine whether the offered price is fair and reasonable and determine which offeror to select for contract award. DoD also uses this information in determining whether to provide precious metals as Government-furnished material; whether to accept alternate preservation, packaging, or packing; and whether to trade in existing personal property toward the purchase of new items.

Affected Public: Business or other for-profit; Not-for-profit institutions.

Frequency: On occasion.

Respondent's Obligation: Required to obtain to retain benefits.

OMB Desk Officer: Ms. Hillary Jaffe.

Written comments and recommendations on the proposed information collection should be sent to Ms. Jaffe at the Office of Management and Budget, Desk Officer for DoD, Room 10236, New Executive Office Building, Washington, DC 20503.

DOD Clearance Officer: Ms. Patricia Toppings.

Written requests for copies of the information collection proposal should be sent to Ms. Toppings at WHS/ESD/Information Management Division, 1777 North Kent Street, RPN, Suite 11000, Arlington, VA 22209-2133.

Dated: November 22, 2005.
Patricia L. Toppings,
Alternate OSD Federal Register Liaison Officer, Department of Defense.

[FR Doc. 05-23486 Filed 11-29-05; 8:45 am]

BILLING CODE 5001-06-M